DEPARTMENT OF HEALTH AND HUMAN SERVICES

National Institutes of Health

National Institute of Arthritis and Musculoskeletal and Skin Diseases; Amended Notice of Meeting

Notice is hereby given of a change in the meeting of the Arthritis and Musculoskeletal and Skin Diseases Special Grants Review Committee, June 18, 2019 to June 19, 2019, which was published in the Federal Register on May 20, 2019, 84 FR 22866.

This notice is being amended to update location information to Hyatt Regency Bethesda, One Bethesda Metro Center, Bethesda, MD 20814. The date and time will remain the same. This meeting is closed to the public.

Dated: May 23, 2019.
Natasha M. Copeland,
Program Analyst, Office of Federal Advisory Committee Policy.

[FR Doc. 2019-11206 Filed 5-29-19; 8:45 am]

BILLING CODE 4140-01-P